DEPARTMENT OF HEALTH AND HUMAN SERVICES

Centers for Medicare & Medicaid Services

[CMS-4063-N]

Medicare Program; Medicare Prescription Drug Discount Card

AGENCY: Centers for Medicare and Medicaid Services (CMS), HHS.

ACTION: Notice.

SUMMARY: This notice announces our intention to solicit applications from entities seeking a Medicare endorsement of their prescription drug discount card programs under the Prescription Drug and Medicare Improvement Act of 2003. Private sector entities that do business in the United States and meet all of the qualifications provided by CMS may receive a Medicare endorsement to operate a prescription drug discount card program, including the administration of up to $600 in transitional assistance for eligible Medicare beneficiaries. Additionally, Medicare Part C organizations that offer coordinated care plans, and Medicare reasonable cost reimbursement contractors, may qualify for a Medicare endorsement to provide such a discount card program with transitional assistance exclusively to members of one or more of its Medicare managed care plans. The requirements for these endorsements are stated in supplemental packages—solicitations for applications—that will be posted on the CMS Web site in December 2003. See ADDRESSES for CMS Web site address.

We anticipate that all applicants whose discount card programs meet the requirements stated in the supplemental package will receive the Medicare endorsement.

Who May Apply: Non-governmental entities that do business in the United States may apply.

DATES: Applications are due to CMS in early 2004, and CMS expects to announce endorsements shortly thereafter. Entities applying in 2004 to enter into a new contract with CMS as a Part C organization offering a coordinated care plan, or plans, will have an additional opportunity to apply for endorsement in 2004.

Deadline for Letter of Intent to Apply: Interested entities are encouraged to immediately submit a letter of intent to the attention of Scott Nelson by e-mail to snelson2@cms.hhs.gov, or by FAX, to 410-786-8933, to apply for an endorsement. Submission of a letter of intent is optional and will not affect the approval of an application.

Date of Pre-Application Conference: We will hold a pre-application conference shortly after the supplemental packages are posted on the CMS Web site and will post on our Web site the date and time of the conference, as well as instructions for registering to attend the conference.

Deadline for Application Submission: Applications for endorsement are due 45 days after the solicitations are posted.

ADDRESSES: Application instructions and materials are available in the solicitations from the Web site at www.cms.hhs.gov/discountdrugs/.

FOR FURTHER INFORMATION CONTACT: Questions about the solicitation may be directed to: Scott Nelson, Health Insurance Specialist, Center for Beneficiary Choices, Centers for Medicare and Medicaid Services at snelson2@cms.hhs.gov. Responses to the questions will be addressed at the conference and posted on the CMS Web site.

Approval of Collection of Information: The Secretary is authorized under section 105(e) of the Prescription Drug and Medicare Improvement Act of 2003 to conduct the collection of information requested in this solicitation without regard to the requirements of the Paperwork Reduction Act, chapter 35, title 44, United States Code.

Authority: Section 105 of the Prescription Drug and Medicare Improvement Act of 2003.

Dated: December 8, 2003.
Thomas A. Scully,
Administrator, Centers for Medicare & Medicaid Services.
Approved: December 8, 2003.
Tommy G. Thompson,
Secretary.

[FR Doc. 03-30754 Filed 12-12-03; 8:45 am]

BILLING CODE 4120-01-P